DEPARTMENT OF LABOR

Agency Information Collection Activities; Submission for OMB Review; Comment Request; Occupational Requirements Survey

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before March 10, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Mara Blumenthal by telephone at 202-693-8538, or by email at DOL_PRA_PUBLIC@dol.gov.

SUPPLEMENTARY INFORMATION: The Occupational Requirements Survey (ORS) is a nationwide survey that the Bureau of Labor Statistics (BLS) is conducting at the request of the Social Security Administration (SSA). Estimates produced from the data collected by the ORS will be used by the SSA to update occupational requirements data for administering the Social Security Disability Insurance (SSDI) and Supplemental Security Income (SSI) programs. BLS is seeking approval to increase the ORS sample size for Fiscal Years 2022 and 2023 to mitigate the impacts of pandemic related non-response on survey estimates. To ensure sufficient data are collected to support final ORS estimates, BLS is now seeking approval to increase the ORS sample size for the group collected August 2022 through July 2023. New requirements would only take effect upon OMB approval. For additional substantive information about this ICR, see the related notice published in the Federal Register on January 28, 2021 (86 FR 7422).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6. The DOL obtains OMB approval for this information collection under Control Number 1220-0189. The current approval is scheduled to expire on August 31, 2024.

Agency: DOL-BLS.

Title of Collection: Occupational Requirements Survey.

OMB Control Number: 1220-0189.

Affected Public: State, Local, and Tribal Governments; Private Sector— Businesses or other for-profits.

Total Estimated Number of Respondents: 10,896.

Total Estimated Number of Responses: 10,896.

Total Estimated Annual Time Burden: 14,105 hours.

Total Estimated Annual Other Costs Burden: $0.

(Authority: 44 U.S.C. 3507(a)(1)(D))

Dated: February 2, 2022.
Mara Blumenthal,
Senior PRA Analyst.

[FR Doc. 2022-02563 Filed 2-7-22; 8:45 am]

BILLING CODE 4510-24-P